DEPARTMENT OF ENERGY

Federal Energy Regulatory Commission

Combined Notice of Filings #2

Take notice that the Commission has received the following Natural Gas Pipeline Rate and Refund Report filings:

Filings Instituting Proceedings

Docket Numbers: RP22-1-000.

Applicants: Guardian Pipeline, L.L.C.

Description: § 4(d) Rate Filing: EPCR Semi-Annual Adjustment—Fall 2021 to be effective 11/1/2021.

Filed Date: 10/1/21.

Accession Number: 20211001-5000.

Comment Date: 5 p.m. ET 10/13/21.

Docket Numbers: RP22-2-000.

Applicants: Guardian Pipeline, L.L.C.

Description: § 4(d) Rate Filing: Transporter Use Gas Annual Adjustment—Fall 2021 to be effective 11/1/2021.

Filed Date: 10/1/21.

Accession Number: 20211001-5001.

Comment Date: 5 p.m. ET 10/13/21.

Docket Numbers: RP22-3-000.

Applicants: Midwestern Gas Transmission Company.

Description: § 4(d) Rate Filing: Annual Load Management Service Cost Reconciliation Adjustment—2021 to be effective 11/1/2021.

Filed Date: 10/1/21.

Accession Number: 20211001-5002.

Comment Date: 5 p.m. ET 10/13/21.

Docket Numbers: RP22-4-000.

Applicants: Viking Gas Transmission Company.

Description: § 4(d) Rate Filing: Semi-Annual Fuel and Losses Retention Adjustment—Winter 2021 Rate to be effective 11/1/2021.

Filed Date: 10/1/21.

Accession Number: 20211001-5003.

Comment Date: 5 p.m. ET 10/13/21.

Docket Numbers: RP22-5-000.

Applicants: Gulf South Pipeline Company, LLC.

Description: § 4(d) Rate Filing: Cap Rel Neg Rate Agmt (Constellation 54301 to Exelon 54328) to be effective 10/1/2021.

Filed Date: 10/1/21.

Accession Number: 20211001-5009.

Comment Date: 5 p.m. ET 10/13/21.

Docket Numbers: RP22-6-000.

Applicants: Gulf South Pipeline Company, LLC.

Description: § 4(d) Rate Filing: Cap Rel Neg Rate Agmts (Marathon 51753, 51743 releases eff 10-1-2021) to be effective 10/1/2021.

Filed Date: 10/1/21.

Accession Number: 20211001-5010.

Comment Date: 5 p.m. ET 10/13/21.

Docket Numbers: RP22-7-000.

Applicants: Gulf South Pipeline Company, LLC.

Description: § 4(d) Rate Filing: Cap Rel Neg Rate Agmts (Aethon III and Aethon United releases eff 10-1-2021) to be effective 10/1/2021.

Filed Date: 10/1/21.

Accession Number: 20211001-5011.

Comment Date: 5 p.m. ET 10/13/21.

Docket Numbers: RP22-8-000.

Applicants: Eastern Gas Transmission and Storage, Inc.

Description: § 4(d) Rate Filing: EGTS—October 1, 2021 Nonconforming Service Agreement to be effective 11/1/2021.

Filed Date: 10/1/21.

Accession Number: 20211001-5020.

Comment Date: 5 p.m. ET 10/13/21.

Docket Numbers: RP22-9-000.

Applicants: Portland Natural Gas Transmission System.

Description: § 4(d) Rate Filing: WXP Phase II Agreements Filing to be effective 11/1/2021.

Filed Date: 10/1/21.

Accession Number: 20211001-5023.

Comment Date: 5 p.m. ET 10/13/21.

Docket Numbers: RP22-10-000.

Applicants: Vector Pipeline L.P.

Description: § 4(d) Rate Filing: Negotiated Rate Filing—Enbridge (EGD and UGL) to be effective 11/1/2021.

Filed Date: 10/1/21.

Accession Number: 20211001-5027.

Comment Date: 5 p.m. ET 10/13/21.

Docket Numbers: RP22-11-000.

Applicants: Cimarron River Pipeline, LLC.

Description: § 4(d) Rate Filing: Fuel Tracker 2021—Winter Season Rates to be effective 11/1/2021.

Filed Date: 10/1/21.

Accession Number: 20211001-5028.

Comment Date: 5 p.m. ET 10/13/21.

Docket Numbers: RP22-12-000.

Applicants: Equitrans, L.P.

Description: § 4(d) Rate Filing: Negotiated Rate Capacity Release Agreements—10/1/2021 to be effective 10/1/2021.

Filed Date: 10/1/21.

Accession Number: 20211001-5030.

Comment Date: 5 p.m. ET 10/13/21.

Docket Numbers: RP22-13-000.

Applicants: Transcontinental Gas Pipe Line Company, LLC.

Description: § 4(d) Rate Filing: Cash Out Surcharge Annual Update Filing to be effective 11/1/2021.

Filed Date: 10/1/21.

Accession Number: 20211001-5047.

Comment Date: 5 p.m. ET 10/13/21.

Docket Numbers: RP22-14-000.

Applicants: Texas Gas Transmission, LLC.

Description: § 4(d) Rate Filing: 2021 Fuel Tracker Filing to be effective 11/1/2021.

Filed Date: 10/1/21.

Accession Number: 20211001-5059.

Comment Date: 5 p.m. ET 10/13/21.

Docket Numbers: RP22-15-000.

Applicants: NEXUS Gas Transmission, LLC.

Description: § 4(d) Rate Filing: Negotiated Rates—Releases eff 10-01-2021 to be effective 10/1/2021.

Filed Date: 10/1/21.

Accession Number: 20211001-5063.

Comment Date: 5 p.m. ET 10/13/21.

Docket Numbers: RP22-16-000.

Applicants: Enable Mississippi River Transmission, LLC.

Description: § 4(d) Rate Filing: Negotiated Rate Filing—10.1.2021 to be effective 10/1/2021.

Filed Date: 10/1/21.

Accession Number: 20211001-5064.

Comment Date: 5 p.m. ET 10/13/21.

Docket Numbers: RP22-17-000.

Applicants: NEXUS Gas Transmission, LLC.

Description: § 4(d) Rate Filing: Negotiated Rates—Amended CNX 860004 eff 10-01-21 to be effective 10/1/2021.

Filed Date: 10/1/21.

Accession Number: 20211001-5066.

Comment Date: 5 p.m. ET 10/13/21.

Docket Numbers: RP22-18-000.

Applicants: Texas Eastern Transmission, LP.

Description: § 4(d) Rate Filing: Negotiated Rates—Releases eff 10-01-2021 to be effective 10/1/2021.

Filed Date: 10/1/21.

Accession Number: 20211001-5072.

Comment Date: 5 p.m. ET 10/13/21.

Docket Numbers: RP22-19-000.

Applicants: Spire STL Pipeline LLC.

Description: Compliance filing: Spire STL Pipeline LAUF Filing to be effective 11/1/2021.

Filed Date: 10/1/21.

Accession Number: 20211001-5157.

Comment Date: 5 p.m. ET 10/13/21.

Docket Numbers: RP22-20-000.

Applicants: MoGas Pipeline LLC.

Description: § 4(d) Rate Filing: MoGas Spire Negotiated Rate Agreement Filing to be effective 11/1/2021.

Filed Date: 10/1/21.

Accession Number: 20211001-5167.

Comment Date: 5 p.m. ET 10/13/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2021.
Kimberly D. Bose,
Secretary.

[FR Doc. 2021-22125 Filed 10-8-21; 8:45 am]

BILLING CODE 6717-01-P